DEPARTMENT OF COMMERCE

National Oceanic and Atmospheric Administration

RIN 0648-XF527

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of Wreckfish Individual Transferable Quota (ITQ) shareholders in Daytona Beach, FL.

DATES: The meeting will be held on Wednesday, August 2, 2017, from 9 a.m. to 4 p.m.

ADDRESSES:

Meeting address: The meeting will be held at the Daytona Beach Resort and Conference Center, 2700 North Atlantic Avenue, Daytona Beach, FL 32118; Hotel phone: (386) 672-3770, fax: (386) 944-2090.

Council address: South Atlantic Fishery Management Council, 4055 Faber Place Drive, Suite 201, N. Charleston, SC 29405.

FOR FURTHER INFORMATION CONTACT: Dr. Brian Cheuvront, Deputy Executive Director for Management, SAFMC; phone: (843) 302-8442; fax: (843) 744-4472.

SUPPLEMENTARY INFORMATION:

The items of discussion by shareholders are as follows:

1. Overview of the mandatory review of the catch share program

2. Timing of the program review

3. Input from shareholders on their views of the current state of the catch share program.

4. Input from shareholders on changes they would like to see in the program.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: July 5, 2017.
Tracey L. Thompson,
Acting Deputy Director, Office of Sustainable Fisheries, National Marine Fisheries Service.

[FR Doc. 2017-14409 Filed 7-10-17; 8:45 am]

BILLING CODE 3510-22-P